DEPARTMENT OF COMMERCE

Foreign-Trade Zones Board

[Docket 59-2005]

Foreign-Trade Zone 68—El Paso, Texas; Application for Expansion

An application has been submitted to the Foreign-Trade Zones Board (the Board) by the City of El Paso, Texas, grantee of FTZ 68, requesting authority to expand its zone in El Paso, Texas, within the El Paso Customs port of entry. The application was submitted pursuant to the provisions of the Foreign-Trade Zones Act (19 U.S.C. 81a-81u), and the regulations of the Board (15 CFR Part 400). It was formally filed on November 29, 2005.

FTZ 68 was approved on April 14, 1981 (Board Order 175, 46 FR 22918; 4/22/81). On September 30, 1982, the grant of authority was reissued to the City of El Paso, Texas (Board Order 193, 47 FR 45065, 10/13/82). The zone was expanded in 1984 (Board Order 255, 49 FR 22842, 6/1/84); in 1991 (Board Order 504, 56 FR 1166, 1/11/91); in 1999 (Board Order 1019, 64 FR 5765, 2/5/99); and, in 2000 (Board Order 1119, 65 FR 57167, 9/21/00).

FTZ 68 currently consists of five sites (3,003 acres) in the El Paso, Texas, area: Site 1 (590 acres)—El Paso Airport's Butterfield Trail Industrial Park; Site 2 (832 acres)—Lower Valley Site, including the Americas Avenue/Zaragosa Bridge Industrial Parks located at the Pan American Center for Industry (281 acres), El Paso Public Service Board Park (51 acres), Ivey Development/AAA Park (90 acres), Yselta Industrial Park (64 acres), Americas Industrial Park and two adjacent parcels (200 acres), and Socorro Industrial Development (145 acres); Site 3 (1,356 acres)—East Region Site includes the Eastern Region Industrial Park sites located at Americas Avenue and Interstate 10 in eastern El Paso (579 acres), the entire 10/375 Industrial Park and two adjacent parcels (210 acres), 335-acre tract within the 2,230-acre Vista del Sol Industrial Park, and a 232-acre parcel located at Montana Avenue, east of Loop 375; Site 4 (130 acres)—Copperfield Industrial Park located on Hawkins Boulevard at Tony Lama Street in Central El Paso; and; Site 5 (95 acres)—WWF Industries Park located on Highway 54 in northeastern El Paso.

The applicant is now requesting authority to expand Site 1 to include the 475-acre city-owned El Paso International Airport Air Cargo Complex and adjacent industrial park (new total - 1,065 acres). The proposed site is suitable for warehousing, distribution, assembly and light manufacturing activities. The applicant is also requesting authority to remove 35 acres from zone status at Site 2-Ivey Development/AAA Park (new total - 55 acres) due to changed circumstances (new Site 2 total - 796 acres). No specific manufacturing requests are being made at this time. Such requests would be made to the Board on a case-by case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-Suite 4100W, 1401 Constitution Avenue, NW., Washington, DC 20230.

The closing period for their receipt is February 10, 2006. Rebuttal comments in response to material submitted during the foregoing period may be submitted during the subsequent 15-day period (to February 27, 2006).

A copy of the application and accompanying exhibits will be available during this time for public inspection at the Office of the Foreign-Trade Zones Board's Executive Secretary at the first address listed above, and at the City of El Paso, 501 George Perry Boulevard, Suite 1, El Paso, Texas 79906.

Dated: November 30, 2005.
Dennis Puccinelli,
Executive Secretary.

[FR Doc. 05-23922 Filed 12-9-05; 8:45 am]

BILLING CODE 3510-DS-S